FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573.

Allround Logistics Inc. (OFF & NVO), 1809 Fashion Court, Suite 101, Joppa, MD 21085. Officers: Margoth T. Starr, Vice President/Secretary (Qualifying Individual), Roland Meier, President. Application Type: Add NVO Service and QI Change.

Best Container Express, Inc. (NVO), 17238 S. Main Street, Gardena, CA 90248. Officers: Richard D. Kim, President (Qualifying Individual), Chang H. Choi, Manager. Application Type: Business Structure Change.

Brauner International Corporation (OFF), 66 York Street, Jersey City, NJ 07302. Officers: Matthew Brauner, President/Treasurer (Qualifying Individual), Harold Brauner, Chairman. Application Type: QI Change.

Century Distribution Systems, Incorporated (OFF), 8730 Stony Point Parkway, Suite 310, Richmond, VA 23235. Officers: Mark T. Gorman, President (Qualifying Individual), Iain C. Aitchison, CEO. Application Type: New OFF License.

Dapex Inc. (NVO), 83-77 Woodhaven Blvd., Apt. 1D, Woodhaven, NY 11421. Officer: David Dvinov, President/Secretary (Qualifying Individual). Application Type: New NVO License.

Freight Logistics Services, LLC dba Kloosterboer International, Forwarding, LLC dba KIF, LLC dba FLS, LLC, dba Kloosterboer (OFF), 3440 Carillon Point, Kirkland, WA 98033. Officers: Sean Newbrey, General Manager (Qualifying Individual), Steve Abernathy, President. Application Type: Trade Name Change and QI Change.

Gruden USA Inc. dba Lybra Overseas Shipping (OFF & NVO), 51 Newark Street, Suite 302, Hoboken, NJ 07030. Officers: Carmella De Primo, Vice President (Qualifying Individual), Luca De Pieri, President/Secretary/Treasurer. Application Type: Trade Name Change and Add NVO Service.

IMOVEGREEN, LLC (OFF & NVO), 370 Concord Avenue, Bronx, NY 10454. Officers: Naama J. Yoffey, Secretary (Qualifying Individual), Jeffrey Sitt, President/CEO. Application Type: New OFF & NVO License.

Keith Roehl Guidroz, Sr. dba Gilscot Guidroz International, dba Guidroz International Transport (NVO), 409 Sala Avenue, Westwego, LA 70094. Officer: Keith Roehl Guidroz, Sr., Sole Proprietor (Qualifying Individual). Application Type: Trade Name Change and Add NVO Service.

Knight Brokerage, LLC (OFF & NVO), 5601 W. Buckeye Road, Phoenix, AZ 85043. Officers: Robin S. Hilton, Director of Global Transportation (Qualifying Individual), Greg Ritter, President. Application Type: New Off & NVO License.

Lars Courier, Inc. dba Lars International Freight Forwarders (NVO), 16900 North Bay Road, Apt. 1906, Sunny Isles, FL 33160, Officers: Rudy O. Vargas-Milian, Secretary (Qualifying Individual), Andres Panesso, President/Treasurer/Director. Application Type: New NVO License.

Lozada Corporation dba Lozada Transportation Services (OFF & NVO), 6526 Arlington Boulevard, Falls Church, VA 22042. Officers: Cristian K. Montecinos, Secretary (Qualifying Individual), Cesar Montecinos, President/Treasurer. Application Type: New OFF & NVO License.

Mark-It Express LLC (OFF), 4800 S. Central Avenue, Suite 102, Chicago, IL 60638. Officer: Anthony M. Apa, Managing Member, (Qualifying Individual). Application Type: New OFF License.

Matthew A. Keces (OFF & NVO), 3137 Bonn Drive, Laguna Beach, CA 92651. Officer: Matthew A. Keces, Sole Proprietor, (Qualifying Individual). Application Type: New OFF & NVO License.

MIC Freight Brokers, Inc (OFF), 8201 NW 66th Street, #6, Miami, FL 33166. Officers: Luis A. Marquez, President, (Qualifying Individual). Maria A. Garcia, Secretary. Application Type: New OFF License.

Miriam Family Cargo, Inc. (NVO), 18 NW 12th Avenue, Miami, FL 33128. Officers: Miriam Y. Bennett, President/Secretary, (Qualifying Individual). Randy R. Bennett, Vice President. Application Type: New NVO License.

Ocean Line Logistics Inc. (OFF & NVO), 582 W. Huntington Drive, Suite M, Arcadia, CA 91007. Officers: Wei Jiang, Vice President, (Qualifying Individual). Peixin Li, President. Application Type: Add OFF Services.

Project Rail, LLC dba Vectora Transportation (OFF & NVO), 610 Wesley Avenue, Oak Park, IL 60304. Officers: Christopher M. Ball, President, (Qualifying Individual). Graham Y. Brisben, Manager. Application Type: New OFF & NVO License.

Quisqueya Cargo Express Inc (NVO), 421 W. Tilghman Street, Allentown, PA 18102. Officer: Fraiser Polanco, President/VP/Secretary/Treasurer, (Qualifying Individual). Application Type: New NVO License.

Seagull Maritime Agencies Private Limited (NVO), E-40/3, Okhla Industrial Area, Phase II, New Delhi 110020 India. Officers: Ashutosh L. Korde, President/CEO, (Qualifying Individual), Sidharth Jena, CFO. Application Type: New NVO License.

Skelton Sherborne Inc (OFF & NVO), 1225 North Loop West, Suite 432, Houston, TX 77008. Officers: Lydia R. Ramos, Secretary, (Qualifying Individual). Bradley V. Skelton, Director/Treasurer. Application Type: QI Change.

The Export Connection, Inc. (OFF), 7580 Sierra Ridge Lane, Lake Worth, FL 33463. Officers: Jari K. Hakkarainen, President/Director, (Qualifying Individual). Lilian E. Hakkarainen, Vice President/Secretary, Application Type: New OFF License.

The Padded Wagon, Inc. (NVO), 163 Exterior Street, Bronx, NY 10451. Officers:Edmond J. Dowling, President, (Qualifying Individual). Aine K. Dowling, Secretary. Application Type: New NVO License.

World Cargo Service, Inc. (NVO), 6905 NW 73rd Court, Miami, FL 33166. Officers: Gregorio J. Zambrano, President, (Qualifying Individual). Diana J. Rodriguez, Vice President. Application Type: QI Change.

WP Logistics Inc. (NVO), 13025 Cerise Avenue, Hawthorne, CA 90250. Officers:Cindy Yamamoto, Secretary, (Qualifying Individual). Seok (Peggy) K. Tan, President/Treasurer. Application Type: Trade Name Change.

Dated: May 14, 2010.
Karen V. Gregory,
Secretary.

[FR Doc. 2010-12052 Filed 5-19-10; 8:45 am]

BILLING CODE 6730-01-P